DEPARTMENT OF THE INTERIOR

National Park Service

[NPS-WASO-NAGPRA-NPS0035801; PPWOCRADN0-PCU00RP14.R50000]

Notice of Inventory Completion: U.S. Department of the Interior, Fish and Wildlife Service, Bismarck Field Office, Bismarck, ND

AGENCY: U.S. Fish and Wildlife Service, Department of Interior.

ACTION: Notice.

SUMMARY: In accordance with the Native American Graves Protection and Repatriation Act (NAGPRA), the U.S. Department of the Interior, Fish and Wildlife Service, Bismarck Field Office (FWS Bismarck) has completed an inventory of human remains and has determined that there is a cultural affiliation between the human remains and Indian Tribes or Native Hawaiian organizations in this notice. The human remains were obtained from Fall River County, SD.

DATES: Repatriation of the human remains in this notice may occur on or after June 8, 2023.

ADDRESSES: Karri Springer, US Fish and Wildlife Service, Bismarck Field Office, 3425 Miriam Avenue, Bismarck, ND 58501, telephone (701) 355-8577, email karri_springer@fws.gov.

SUPPLEMENTARY INFORMATION: This notice is published as part of the National Park Service's administrative responsibilities under NAGPRA. The determinations in this notice are the sole responsibility of FWS Bismarck. The National Park Service is not responsible for the determinations in this notice. Additional information on the determinations in this notice, including the results of consultation, can be found in the inventory or related records held by FWS Bismarck.

Description

On February 19, 2015, human remains representing, at minimum, two individuals were recovered from the premises of an individual in Fall River County, SD, by FWS Bismarck during a law enforcement operation. Conviction and sentencing of the individual resulted in these human remains being forfeited to the USFWS. One individual, represented by a skull with jaw—belong to an individual of unknown age and sex. Another individual, represented by a scalp with a group of human hairs—belong to an individual of unknown age and sex. No known individuals were identified. No associated funerary objects are present.

Cultural Affiliation

The human remains in this notice are connected to one or more identifiable earlier groups, tribes, peoples, or cultures. There is a relationship of shared group identity between the identifiable earlier groups, tribes, peoples, or cultures and one or more Indian Tribes. The following types of information were used to reasonably trace the relationship: geographical, kinship, biological, linguistic, cultural, historical, and expert opinion.

Determinations

Pursuant to NAGPRA and its implementing regulations, and after consultation with the appropriate Indian Tribes and Native Hawaiian organizations, FWS Bismarck has determined that:

• The human remains described in this notice represent the physical remains of two individuals of Native American ancestry.

• There is a relationship of shared group identity that can be reasonably traced between the human remains described in this notice and the Cheyenne River Sioux Tribe of the Cheyenne River Reservation, South Dakota; Flandreau Santee Sioux Tribe of South Dakota; Omaha Tribe of Nebraska; Rosebud Sioux Tribe of the Rosebud Indian Reservation, South Dakota; Sisseton-Wahpeton Oyate of the Lake Traverse Reservation, South Dakota; and the Standing Rock Sioux Tribe of North & South Dakota.

Requests for Repatriation

Written requests for repatriation of the human remains in this notice must be sent to the Responsible Official identified in ADDRESSES. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 8, 2023. If competing requests for repatriation are received, FWS Bismarck must determine the most appropriate requestor prior to repatriation. Requests for joint repatriation of the human remains and associated funerary objects are considered a single request and not competing requests. FWS Bismarck is responsible for sending a copy of this notice to the Indian Tribes identified in this notice.

Authority: Native American Graves Protection and Repatriation Act, 25 U.S.C. 3003, and the implementing regulations, 43 CFR 10.9, 10.10, and 10.14.

Dated: May 3, 2023.
Melanie O'Brien,
Manager, National NAGPRA Program.

[FR Doc. 2023-09763 Filed 5-8-23; 8:45 am]

BILLING CODE 4312-52-P